DEPARTMENT OF THE TREASURY

United States Mint

Citizens Coinage Advisory Committee Meeting

ACTION: Notification of Citizens Coinage Advisory Committee public meeting.

SUMMARY: Pursuant to United States Code, Title 31, section 5135(b)(8)(C), the United States Mint announces the Citizens Coinage Advisory Committee (CCAC) public meeting scheduled for October 7-8, 2015.

Date: October 7-8, 2015.

Time: October 7 10:30 a.m. to 4:15 p.m.

October 8 9:00 a.m. to 12:30 p.m.

Location: Conference Room A, United States Mint, 801 9th Street NW., Washington, DC 20220.

Subject: Review and discussion of candidate designs for the 2017 and 2018 Native American $1 Coin Program; the Code Talker Congressional Medals for the Laguna Tribe and the Mohawk; the 2017 America the Beautiful Quarters® Program Coins honoring Effigy Mounds National Monument, Frederick Douglass National Historic Site, Ozark National Scenic Riverways, Ellis Island National Monument, and George Rogers Clark National Historic Park; and the 2017 Lions Club International Century of Service Commemorative Coin; review and discussion of themes for the 2017 Boys Town Centennial Commemorative Coin Program and the 2018 America the Beautiful Quarters® Program Coins honoring Pictured Rocks National Lakeshore, Apostle Island National Lakeshore, Voyageurs National Park, Cumberland Island National Seashore, and Block Island National Wildlife Refuge; and the election of jurors for the upcoming World War I American Veterans Centennial Commemorative Coin competition.

Interested persons should call the CCAC HOTLINE at (202) 354-7502 for the latest update on meeting time and room location.

In accordance with 31 U.S.C. 5135, the CCAC:

• Advises the Secretary of the Treasury on any theme or design proposals relating to circulating coinage, bullion coinage, Congressional Gold Medals, and national and other medals.

• Advises the Secretary of the Treasury with regard to the events, persons, or places to be commemorated by the issuance of commemorative coins in each of the five calendar years succeeding the year in which a commemorative coin designation is made.

• Makes recommendations with respect to the mintage level for any commemorative coin recommended.

FOR FURTHER INFORMATION CONTACT: William Norton, United States Mint Liaison to the CCAC; 801 9th Street NW., Washington, DC 20220; or call 202-354-7200.

Any member of the public interested in submitting matters for the CCAC's consideration is invited to submit them by fax to the following number: 202-756-6525.

Authority: 31 U.S.C. 5135(b)(8)(C).

Dated: September 21, 2015.
Richard A. Peterson,
Deputy Director for Manufacturing and Quality, United States Mint.

[FR Doc. 2015-24769 Filed 9-29-15; 8:45 am]

BILLING CODE P